COMMODITY FUTURES TRADING COMMISSION

Privacy Act of 1974 System of Records Notice

AGENCY: Commodity Futures Trading Commission.

ACTION: Notice; withdrawal of a Privacy Act system of records notice.

SUMMARY: In accordance with the Privacy Act of 1974, the Commodity Futures Trading Commission (CFTC) is providing notice that it is withdrawing one system of records notice, CFTC-8, “Employment Applications,” from its inventory of record systems because the relevant records are covered by an existing government-wide system notice.

DATES: Effective upon publication.

FOR FURTHER INFORMATION CONTACT: Kathy Harman-Stokes, Chief Privacy Officer, kharman-stokes@cftc.gov, 202-418-6629, Office of the Executive Director, Commodity Futures Trading Commission, Three Lafayette Centre, 1155 21st Street NW., Washington, DC 20581.

SUPPLEMENTARY INFORMATION: Pursuant to the Privacy Act of 1974, 5 U.S.C. 552a, and as part of the Commodity Futures Trading Commission's effort to review and update system of records notices, the Commission is withdrawing one system of records notice, CFTC-8, “Employment Applications.” The Commission is withdrawing the system notice because the records are covered by an existing government-wide notice, OPM/GOVT-5, “Recruiting, Examining, and Placement Records.”

The Commission will continue to collect and maintain records regarding recruiting, examining and placement as a custodian for such records for the Office of Personnel Management and will rely upon and follow the existing Federal government-wide system of records notice, OPM/GOVT-5 (71 FR 35351, June 19, 2006). Eliminating CFTC-8 will not have an adverse impact on individuals and will promote the overall streamlining and management of CFTC Privacy Act record systems.

Accordingly, this notice formally terminates system of records notice CFTC-8 and removes it from the inventory of the Commodity Futures Trading Commission.

Issued in Washington, DC, on September 26, 2016, by the Commission.
Christopher J. Kirkpatrick,
Secretary of the Commission.

[FR Doc. 2016-23621 Filed 9-29-16; 8:45 am]

BILLING CODE 6351-01-P